DEPARTMENT OF HEALTH AND HUMAN SERVICES

Centers for Disease Control and Prevention

[30Day-13-12QI]

Agency Forms Undergoing Paperwork Reduction Act Review

The Centers for Disease Control and Prevention (CDC) publishes a list of information collection requests under review by the Office of Management and Budget (OMB) in compliance with the Paperwork Reduction Act (44 U.S.C. chapter 35). To request a copy of these requests, call (404) 639-7570 or send an email to omb@cdc.gov. Send written comments to CDC Desk Officer, Office of Management and Budget, Washington, DC 20503 or by fax to (202) 395-5806. Written comments should be received within 30 days of this notice.

Proposed Project

National Voluntary Environmental Assessment Information System (NVEAIS)—New—National Center for Environmental Health (NCEH), Centers for Disease Control and Prevention (CDC).

Background and Brief Description

The CDC is requesting a three-year OMB approval for a National Voluntary Environmental Assessment Information System (NVEAIS) to collect data from foodborne illness outbreak environmental assessments routinely conducted by local, state, territorial, or tribal food safety programs during outbreak investigations. Environmental assessment data are not currently collected at the national level. The data reported through this information system will provide timely data on the causes of outbreaks, including environmental factors associated with outbreaks, and are essential to environmental public health regulators' efforts to respond more effectively to outbreaks and prevent future, similar outbreaks.

The information system was developed by the Environmental Health Specialists Network (EHS-Net), a collaborative project of federal and state public health agencies. The EHS-Net has developed a standardized instrument for reporting data relevant to foodborne illness outbreak environmental assessments.

State, local, tribal, and territorial food safety programs are the primary respondents for this data collection. Although it is not possible to determine how many programs will choose to participate, as NVEAIS is voluntary, the maximum potential number of program respondents is approximately 3,000.

These programs will be reporting data on outbreaks and factors related to outbreaks, not their programs or personnel. It is not possible to determine exactly how many outbreaks will occur in the future, nor where they will occur. However, we estimate, based on existing data, that a maximum of 1,400 foodborne illness outbreaks will occur annually. Only programs in the jurisdictions in which these outbreaks occur would report to NVEAIS. Assuming each outbreak occurs in a different jurisdiction, there will be one respondent per outbreak.

There are two data collection activities. The first is entering all requested environmental assessment data into NVEAIS. This will be done once for each outbreak by food safety program personnel. This will take approximately 60 minutes per outbreak.

The second data collection activity is the manager interview that will be conducted at each establishment associated with an outbreak by the state food safety programs. Most outbreaks are associated with only one establishment; however, some are associated with multiple establishments. We estimate that a maximum average of 4 manager interviews will be conducted per outbreak. Each interview will take about 20 minutes.

Additionally, all food safety program personnel participating in NVEAIS will be required to attend a LiveMeeting (i.e., webinar) training session conducted by CDC staff. We estimate the burden of this training to be a maximum of 2 hours. Respondents will only have to take this training one time. Assuming a maximum number of outbreaks of 1,400, the estimated burden for this training is 2,800 hours.

The total estimated annual burden is 6,067 hours. There is no cost to the respondents other than their time.

Estimated Annualized Burden Hours
Type of respondent | Form name | Number of respondents | Number responses per respondent | Average burden per response (in hrs)
Food safety program personnel | NVEAIS Data Reporting Instrument | 1,400 | 1 | 1
Retail food personnel | NVEAIS Manager interview | 5,600 | 1 | 20/60
Food safety program personnel | NVEAIS Food safety program personnel training | 1,400 | 1 | 2

Dated: March 20, 2013.
Ron A. Otten,
Director, Office of Scientific Integrity, Office of the Associate Director for Science, Office of the Director, Centers for Disease Control and Prevention.

[FR Doc. 2013-07736 Filed 4-2-13; 8:45 am]

BILLING CODE 4163-18-P